DEPARTMENT OF THE TREASURY

Customs Service

19 CFR Part 102

T.D. [01-36]

RIN 1515-AC80

Rules of Origin for Textile and Apparel Products

Correction

In rule document 01-10719, beginning on page 21660, in the issue of Tuesday, May 1, 2001, make the following correction:

§ 102.21 [Corrected]

On page 21664, in the table, §102.21, under the heading “ HTSUS” the fourth number, “6301-6303” should read “6301-6306”.

[FR Doc. C1-10719 Filed 5-9-01; 8:45 am]

BILLING CODE 1505-01-D